DEPARTMENT OF ENERGY

Federal Energy Regulatory Commission

Notice of Application for Non-Project Use of Project Lands and Waters and Soliciting Comments, Motions To Intervene, and Protests

May 2, 2006

Take notice that the following application has been filed with the Commission and is available for public inspection:

a. Application Type: Non-Project Use Of Project Lands and Waters.

b. Project No: 2165-025.

c. Date Filed: March 6, 2006.

d. Applicant: Alabama Power Company.

e. Name of Project: The Warrior River Project, which includes the Smith Dam development.

f. Location: The proposed action will take place at the Smith Dam development at the former Castle Rock Marina on Ryan Creek, which is a tributary to Smith Lake located in Cullman County, Alabama approximately 11 stream miles above the Smith Dam.

g. Filed Pursuant to: Federal Power Act, 16 U.S.C. 791 (a) 825(r) and 799 and 801.

h. Applicant Contact: Mr. Keith E. Bryant, Sr. Engineer; Alabama Power Company Hydro Services; 600 18th Street North, Birmingham, AL 35203; (205) 257-1403.

i. FERC Contact: Any questions on this notice should be addressed to Brian Romanek at (202) 502-6175, or by e-mail: Brian Romanek@ferc.gov.

j. Deadline for filing comments and or motions: June 1, 2006.

All documents (original and eight copies) should be filed with: Ms. Magalie R. Salas, Secretary, Federal Energy Regulatory Commission, 888 First Street, NE., Washington, DC 20426. Please include the project number (P-2165-025) on any comments or motions filed. Comments, protests, and interventions may be filed electronically via the internet in lieu of paper. See, 18 CFR 385.2001(a)(1)(iii) and the instructions on the Commission's Web site under the “e-Filing” link. The Commission strongly encourages e-filings.

k. Description of Request: The licensee has requested Commission approval to allow Crane Hill Development, LLC. to install three floating boat dock structures at the former Castle Rock Marina, which is presently closed. The new docks would be for private use by residents of Waterford Condominiums, a residential community adjoining project land. The new dock structure would consist of: (1) Two covered docks, each measuring 58 feet wide by 136 feet long and will accommodate 20 boats, each and; (2) one partially covered dock structure, measuring 58 feet wide by 123 feet long, accommodating 18 boats. The total number of boats accommodated would be 58. The former marina had docks that would accommodate 92 boats. In addition, a one-fourth of an acre parking area would be constructed as well as a 50-foot-long retaining wall around the existing swimming pool.

l. Location of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, state, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. E6-6952 Filed 5-8-06; 8:45 am]

BILLING CODE 6717-01-P